DEPARTMENT OF THE TREASURY

Internal Revenue Service

Cancellation of Open Meeting of the Area 2 Taxpayer Advocacy Panel (Including the States of Delaware, North Carolina, South Carolina, New Jersey, Maryland, Pennsylvania, Virginia and the District of Columbia)

AGENCY: Internal Revenue Service (IRS) Treasury.

ACTION: Notice.

SUMMARY: An open meeting of the Area 2 Taxpayer Advocacy Panel is cancelled in Washington, DC.

DATES: The meeting Friday, June 11, 2004, and Saturday, June 12, 2004, has been cancelled.

FOR FURTHER INFORMATION CONTACT: Inez E. De Jesus at 1-888-912-1227 (toll-free), or 954-423-7977 (non toll-free).

SUPPLEMENTARY INFORMATION: Notice is hereby given pursuant to section 10(a)(2) of the Federal Advisory Committee Act, 5 U.S.C. App. (1988) that an open meeting of the Area 2 Taxpayer Advocacy Panel on Friday, June 11, 2004 from 8 a.m. to 12 p.m. and from 1 p.m. to 5 p.m. EDT and Saturday, June 12, 2004 from 8 a.m. to 12 p.m. EDT in Washington, DC at One Washington Circle Hotel, One Washington Circle NW., Washington, DC 20037, has been cancelled. For information contact Inez De Jesus. Ms. De Jesus may be reached at 1-888-912-1227 or 954-423-7977, or write Inez E. De Jesus, TAP Office, 1000 South Pine Island Rd., Suite 340, Plantation, FL 33324, or post comments to the Web site: http://www.improveirs.org.

Dated: June 7, 2004.
Martha Curry,
Acting Director, Taxpayer Advocacy Panel.

[FR Doc. 04-13328 Filed 6-8-04; 2:46 pm]

BILLING CODE 4830-01-P